DEPARTMENT OF COMMERCE

Patent and Trademark Office

Agency Information Collection Activities; Submission to the Office of Management and Budget (OMB) for Review and Approval; Comment Request; Patent Processing

AGENCY: United States Patent and Trademark Office, Department of Commerce.

ACTION: Notice of information collection; request for comment.

SUMMARY: The United States Patent and Trademark Office (USPTO), as required by the Paperwork Reduction Act of 1995, invites comments on the extension and revision of an existing information collection: 0651-0031 (Patent Processing). The purpose of this notice is to allow 60 days for public comment preceding submission of this information collection to OMB.

DATES: To ensure consideration, comments regarding this information collection must be received on or before March 29, 2024.

ADDRESSES: Interested persons are invited to submit written comments by any of the following methods. Do not submit Confidential Business Information or otherwise sensitive or protected information.

• Email: InformationCollections@uspto.gov. Include “0651-0031 comment” in the subject line of the message.

• Federal Rulemaking Portal: http://www.regulations.gov.

• Mail: Justin Isaac, Information Collection Officer, Office of the Chief Administrative Officer, United States Patent and Trademark Office, P.O. Box 1450, Alexandria, VA 22313-1450.

FOR FURTHER INFORMATION CONTACT: Requests for additional information should be directed to Raul Tamayo, Senior Legal Advisor, Office of Patent Legal Administration, P.O. Box 1450, Alexandria, VA 22313-1450; by telephone at 571-272-7728; or by email to raul.tamayo@uspto.gov with “0651-0031 comment” in the subject line. Additional information about this information collection is also available at http://www.reginfo.gov under “Information Collection Review.”

SUPPLEMENTARY INFORMATION:

I. Abstract

The United States Patent and Trademark Office (USPTO) is required by 35 U.S.C. 131 to examine an application for patent and, when appropriate, issue a patent. The USPTO is also required to publish patent applications, with certain exceptions, promptly after the expiration of a period of eighteen months from the earliest filing date for which a benefit is sought under title 35, United States Code (“eighteen-month publication”). Certain situations may arise which require that additional information be supplied in order for the USPTO to further process the patent or application. The USPTO administers the statutes through various sections of the rules of practice in 37 CFR part 1.

During the processing of an application for a patent, the applicant or the applicant's representative may be required to submit additional information to the USPTO concerning the examination of a specific application. The specific information required to be submitted includes: requests for extension of time, abandonment of applications and the revival of abandoned applications, disclaimers, appeals, petitions, expedited examination of design applications, requests for continued examinations, requests to inspect, copy, access patent applications, and transmittal forms.

The information in this collection is used by the USPTO to continue the processing of the patent or application to ensure that applicants are complying with the patent regulations and to aid in the prosecution of the application. This also includes situations that require additional information in order for the USPTO to further process the patent or application.

II. Method of Collection

The items in this information collection can be submitted through the USPTO patent electronic filing system (Patent Center), the USPTO's online filing and viewing system for patent applications and related documents. The USPTO also will accept submissions by mail, hand delivery, and facsimile.

III. Data

OMB Control Number: 0651-0031.

Forms: (AIA—America Invents Act; SB—Specimen Book; PTOL = Patent and Trademark Office Legal)

• PTO/AIA/22 (Petition for Extension of Time under 37 CFR 1.136(a))

• PTO/AIA/24 (Express Abandonment under 37 CFR 1.138)

• PTO/AIA/24B (Petition for Express Abandonment to Obtain a Refund)

• PTO/AIA/33 (Pre-Appeal Brief Request for Review)

• PTO/AIA/40 (Request for Correction in a Patent Application Relating to Inventorship or an Inventor Name, or Order of Names, Other than in a Reissue Application (37 CFR 1.48)

• PTO/AIA/41 (Request to Correct or Update the Name of the Applicant Under 37 CFR 1.45(c)(1), or Change the Applicant Under 37 CFR 1.46(c)(2))

• PTO/AIA/67 (Power to Inspect/Copy—For Applications Filed On or After September 16, 2012)

• PTO/AIA/96 (Statement Under 37 CFR 3.73(c))

• PTO/SB/08a (Information Disclosure Statement by Applicant)

• PTO/SB/08b (Information Disclosure Statement by Applicant)

• PTO/SB/17i (Processing Fee under 37 CFR 1.17(i) Transmittal)

• PTO/SB/21 (Transmittal Form)

• PTO/SB/22 (Petition for Extension of Time under 37 CFR 1.136(a))

• PTO/SB/24 (Express Abandonment under 37 CFR 1.138)

• PTO/SB/24B (Petition for Express Abandonment to Obtain a Refund)

• PTO/SB/25 (Terminal Disclaimer to Obviate a Provisional Double Patenting Rejection Over a Pending “Reference” Application)

• PTO/SB/26 (Terminal Disclaimer to Obviate a Double Patenting Rejection over a “Prior” Patent)

• PTO/SB/27 (Request for Expedited Examination of a Design Application (37 CFR 1.155))

• PTO/SB/30 (Request for Continued Examination (RCE) Transmittal)

• PTO/SB/33 (Pre-Appeal Brief Request for Review)

• PTO/SB/35 (Nonpublication Request under 35 U.S.C. 122(b)(2)(B)(i))

• PTO/SB/36 (Rescission of Previous Nonpublication Request (35 U.S.C. 122(b)(2)(B)(ii) and, if applicable, Notice of Foreign Filing (35 U.S.C. 122(b)(2)(B)(iii))

• PTO/SB/37 (Request Deferral of Examination 37 CFR 1.103(d))

• PTO/SB/38 (Request to Retrieve Electronic Priority Applications(s) Filed with Nonparticipating Office(s) That is Available in a Participating Office (37 CFR 1.55(i)(4)))

• PTO/SB/39 (Authorization or Rescission of Authorization to Permit Access to Application-as-filed by Participating Offices)

• PTO/SB/43 (Disclaimer in a Patent under 37 CFR 1.321(a))

• PTO/SB/63 (Terminal Disclaimer to Accompany Petition)

• PTO/SB/64 (Petition for Revival of an Application for Patent Abandoned Unintentionally Under 37 CFR 1.137(a))

• PTO/SB/64a (Petition for Revival of an Application for Patent Abandoned for Failure to Notify the Office of a Foreign or International Filing (37 CFR 1.137(f))

• PTO/SB/67 (Power to Inspect/Copy—For Applications Filed Before September 16, 2012)

• PTO/SB/68 (Request for Access to an Abandoned Application under 37 CFR 1.14)

• PTO/SB/91 (Deposit Account Order Form)

• PTO/SB/92 (Certificate of Mailing or Transmission under 37 CFR 1.8)

• PTO/SB/96 (Statement under 37 CFR 3.73(b))

• PTO/SB/130 (Petition to Make Special Based on Age for Advancement of Examination under 37 CFR 1.102(c)(1))

• PTOL/413A (Applicant Initiated Interview Request Form)

• PTO-2053-A/B (Notice Under 37 CFR 1.251—Pending Application)

• PTO-2054-A/B (Notice Under 37 CFR 1.251—Abandoned Application)

• PTO-2055-A/B (Notice Under 37 CFR 1.251—Patent)

Type of Review: Extension and revision of a currently approved information collection.

Affected Public: Private sector.

Respondent's Obligation: Required to obtain or retain benefits.

Estimated Number of Annual Respondents: 2,435,597 respondents per year.

Estimated Number of Annual Responses: 2,435,597 responses per year.

Estimated Time per Response: The USPTO estimates that it will take respondents between 2 minutes (0.03 hours) and 8 hours to submit items in this information collection depending on the instrument used. This includes the time to gather the necessary information, create the document, and submit the completed request to the USPTO.

Estimated Total Annual Respondent Burden Hours: 535,466 hours.

Estimated Total Annual Respondent Hourly Cost Burden: $170,503,027.

Table 1—Total Burden Hours and Hourly Costs to Private Sector Respondents
Item No. | Item | Estimated annual respondents | Responses per respondent | Estimated annual responses | Estimated time for response (hours) | Estimated burden (hour/year) | Rate ¹ ($/hour) | Estimated annual respondent cost burden
|  | (a) | (b) | (a) × (b) = (c) | (d) | (c) × (d) = (e) | (f) | (e) × (f) = (g)
1 | Information Disclosure Statements (IDS) that do not require the fee set forth in 37 CFR 1.17(p) | 694,000 | 1 | 694,000 | 0.20 (12 minutes) | 138,800 | $447 | $62,043,600
2 | Transmittal Form | 517,000 | 1 | 517,000 | 0.20 (12 minutes) | 103,400 | 122 | 12,614,800
3 | Petition for Extension of Time under 37 CFR 1.136(a) | 192,884 | 1 | 192,884 | 0.40 (24 minutes) | 77,154 | 122 | 9,412,788
4 | Express Abandonment under 37 CFR 1.138 | 2,000 | 1 | 2,000 | 0.08 (5 minutes) | 160 | 122 | 19,520
5 | Statutory Disclaimers (including terminal disclaimers) | 49,950 | 1 | 49,950 | 0.25 (15 minutes) | 12,488 | 447 | 5,582,136
6 | Request for Expedited Examination of a Design Application | 7,227 | 1 | 7,227 | 0.25 (15 minutes) | 1,807 | 447 | 807,729
7 | Petition for Revival of an Application for Patent Abandoned Unintentionally | 7,024 | 1 | 7,024 | 1 | 7,024 | 447 | 3,139,728
8 | Petition for Revival of an Application for Patent Abandoned for Failure to Notify the Office of a Foreign or International Filing | 125 | 1 | 125 | 1 | 125 | 447 | 55,875
9 | Requests to Access, Inspect, and Copy | 1,000 | 1 | 1,000 | 0.25 (15 minutes) | 250 | 122 | 30,500
10 | Deposit Account Order Form | 55,000 | 1 | 55,000 | 0.25 (15 minutes) | 13,750 | 122 | 1,677,500
11 | Certificates of Mailing or Transmission | 450,000 | 1 | 450,000 | 0.03 (2 minutes) | 13,500 | 122 | 1,647,000
12 | Statement Under 37 CFR 3.73(c) (AIA), 37 CFR 3.83(b) (pre-AIA) | 146,000 | 1 | 146,000 | 0.25 (15 minutes) | 36,500 | 447 | 16,315,500
13 | Non-publication Request | 16,000 | 1 | 16,000 | 0.25 (15 minutes) | 4,000 | 447 | 1,788,000
14 | Rescission of Previous Non-publication Request (35 U.S.C. § 122(b)(2)(B)(ii) and, if applicable, Notice of Foreign Filing (35 U.S.C. § 122(b)(2)(B)(iii) | 500 | 1 | 500 | 0.25 (15 minutes) | 125 | 447 | 55,875
15 | USPTO Patent Electronic Filing System Copy of Application for Publication | 1 | 1 | 1 | 2.50 | 3 | 122 | 366
16 | Copy of File Content Showing Redactions | 3 | 1 | 3 | 4 | 12 | 447 | 5,364
17 | Copy of the Applicant or Patentee's Record of the Application (including copies of the correspondence, list of the correspondence, and statements verifying whether the record is complete or not) | 10 | 1 | 10 | 2 | 20 | 122 | 2,440
18 | Request for Continued Examination (RCE) Transmittal) | 132,000 | 1 | 132,000 | 0.30 (18 minutes) | 39,600 | 447 | 17,701,200
19 | Request for Suspension of Action or Deferral of Examination Under 37 CFR 1.103(b), (c), or (d) | 630 | 1 | 630 | 0.20 (12 minutes) | 126 | 447 | 56,322
20 | Request for Voluntary Publication or Republication (includes publication fee for republication) | 450 | 1 | 450 | 0.20 (12 minutes) | 90 | 122 | 10,980
21 | Applicant Initiated Interview Request Form | 50,000 | 1 | 50,000 | 0.40 (24 minutes) | 20,000 | 447 | 8,940,000
22 | Processing Fee Under 37 CFR 1.17(i) Transmittal | 100 | 1 | 100 | 0.08 (5 minutes) | 8 | 447 | 3,576
23 | Request to Retrieve Electronic Priority Application (s) Under 37 CFR 1.55(i)(4) | 10,000 | 1 | 10,000 | 0.25 (15 minutes) | 2,500 | 447 | 1,117,500
24 | Authorization or Rescission of Authorization to Permit Access to Application-as-filed by Participating Offices Under 37 CFR 1.14(h) | 6,000 | 1 | 6,000 | 0.25 (15 minutes) | 1,500 | 447 | 670,500
25 | Petition for Express Abandonment to Obtain a Refund | 2,050 | 1 | 2,050 | 0.20 (12 minutes) | 410 | 447 | 183,270
26 | Pre-Appeal Brief Request for Review | 6,700 | 1 | 6,700 | 5 | 33,500 | 447 | 14,974,500
27 | Request for Corrected Filing Receipt | 44,000 | 1 | 44,000 | 0.08 (5 minutes) | 3,520 | 122 | 429,440
28 | Petition to Make Special Based on Age for Advancement of Examination under 37 CFR 1.102(c)(1) | 2,100 | 1 | 2,100 | 2 | 4,200 | 447 | 1,877,400
29 | Filing a submission after final rejection (see 37 CFR 1.129(a)) | 43 | 1 | 43 | 8 | 344 | 447 | 153,768
30 | Correction of inventorship after first office action on the merits | 3,300 | 1 | 3,300 | 0.75 (45 minutes) | 2,475 | 447 | 1,106,325
31 | Request for correction in a patent application relating to inventorship or an inventor name, or order of names, other than in a reissue application (37 CFR 1.48) | 18,500 | 1 | 18,500 | 0.75 (45 minutes) | 13,875 | 447 | 6,202,125
32 | Request to correct or update the name of the applicant under 37 CFR 1.46(c)(1), or change the applicant under 37 CFR 1.46(c)(2) | 21,000 | 1 | 21,000 | 0.20 (12 minutes) | 4,200 | 447 | 1,877,400
Totals |  | 2,435,597 |  | 2,435,597 |  | 535,466 |  | 170,503,027
¹ 2023 Report of the Economic Survey, published by the Committee on Economics of Legal Practice of the American Intellectual Property Law Association (AIPLA); pg. F-41. The USPTO uses the average billing rate for intellectual property work in all firms which is $447 per hour (https://www.aipla.org/home/news-publications/economic-survey). 2022 National Utilization and Compensation Survey Report published by the National Association of Legal Assistants (NALA); pg. 38. The USPTO uses the average billing rate for paralegals/paraprofessionals, which is $122 per hour (https://nala.org/paralegal-info/).

Estimated Total Annual Non-Hourly Cost Burden: $363,821,958. There is no capital start-up, maintenance costs, or recordkeeping costs associated with this information collection. However, there is non-hour cost burden in the way of filing fees and postage costs. The total annual (non-hour) respondent cost burden for this collection is estimated to be $363,821,958, which includes $363,579,616 in filing fees, and $242,342 in postage.

Filing Fees

The fees in this information collection are listed in the table below. The fee for Request for Prioritized Examination has no counterpart in the hourly cost table due to that form being exempt from the PRA.

Table 2—Filing Fees
Item No. | Fee code | Item | Estimated annual responses | Filing fee ($) | Non-hourly cost burden
|  |  | (a) | (b) | (a) × (b) = (c)
1 | 1806 | Information Disclosure Statements (IDS) that require the fee set forth in 37 CFR 1.17(p) (undiscounted) | 85,540 | $260 | $22,240,400
1 | 2806 | IDS that require the fee set forth in 37 CFR 1.17(p) (small entity) | 22,173 | 104 | 2,305,992
1 | 3806 | IDS that require the fee set forth in 37 CFR 1.17(p) (micro entity) | 624 | 52 | 32,448
3 | 1251 | One-month Extension of Time under 37 CFR 1.136(a) (undiscounted) | 62,740 | 220 | 13,802,800
3 | 2251 | One-month Extension of Time under 37 CFR 1.136(a) (small entity) | 29,039 | 88 | 2,555,432
3 | 3251 | One-month Extension of Time under 37 CFR 1.136(a) (micro entity) | 3,509 | 44 | 154,396
3 | 1252 | Two-month Extension of Time under 37 CFR 1.136(a) (undiscounted) | 23,560 | 640 | 15,078,400
3 | 2252 | Two-month Extension of Time under 37 CFR 1.136(a) (small entity) | 15,484 | 256 | 3,963,904
3 | 3252 | Two-month Extension of Time under 37 CFR 1.136(a) (micro entity) | 1,922 | 128 | 246,016
3 | 1253 | Three-month Extension of Time under 37 CFR 1.136(a) (undiscounted) | 20,377 | 1,480 | 30,157,960
3 | 2253 | Three-month Extension of Time under 37 CFR 1.136(a) (small entity) | 23,002 | 592 | 13,617,184
3 | 3253 | Three-month Extension of Time under 37 CFR 1.136(a) (micro entity) | 2,558 | 296 | 757,168
3 | 1254 | Four-month Extension of Time under 37 CFR 1.136(a) (undiscounted) | 1,810 | 2,320 | 4,199,200
3 | 2254 | Four-month Extension of Time under 37 CFR 1.136(a) (small entity) | 2,196 | 928 | 2,037,888
3 | 3254 | Four-month Extension of Time under 37 CFR 1.136(a) (micro entity) | 266 | 464 | 123,424
3 | 1255 | Five-month Extension of Time under 37 CFR 1.136(a) (undiscounted) | 3,039 | 3,160 | 9,603,240
3 | 2255 | Five-month Extension of Time under 37 CFR 1.136(a) (small entity) | 3,176 | 1,264 | 4,014,464
3 | 3255 | Five-month Extension of Time under 37 CFR 1.136(a) (micro entity) | 206 | 632 | 130,192
5 | 1814 | Statutory Disclaimers (including terminal disclaimers) (undiscounted) | 36,105 | 170 | 6,137,850
5 | 2814 | Statutory Disclaimers (including terminal disclaimers) (small entity) | 13,175 | 170 | 2,239,750
5 | 3814 | Statutory Disclaimers (including terminal disclaimers) (micro entity) | 670 | 170 | 113,900
6 | 1802 | Request for Expedited Examination of a Design Application (undiscounted) | 713 | 1,600 | 1,140,800
6 | 2802 | Request for Expedited Examination of a Design Application (small entity) | 1,426 | 640 | 912,640
6 | 3802 | Request for Expedited Examination of a Design Application (micro entity) | 5,088 | 320 | 1,628,160
7 | 1453 | Petition for Revival of an Application for Patent Abandoned Unintentionally (undiscounted) | 2,323 | 2,100 | 4,878,300
7 | 2453 | Petition for Revival of an Application for Patent Abandoned Unintentionally (small entity) | 3,388 | 840 | 2,845,920
7 | 3453 | Petition for Revival of an Application for Patent Abandoned Unintentionally (micro entity) | 1,313 | 420 | 551,460
8 | 1453 | Petition for Revival of an Application for Patent Abandoned for Failure to Notify the Office of a Foreign or International Filing (undiscounted) | 94 | 2,100 | 197,400
8 | 2453 | Petition for Revival of an Application for Patent Abandoned for Failure to Notify the Office of a Foreign or International Filing (small entity) | 19 | 840 | 15,960
8 | 3453 | Petition for Revival of an Application for Patent Abandoned for Failure to Notify the Office of a Foreign or International Filing (micro entity) | 12 | 420 | 5,040
16 | 1808 | Copy of File Content Showing Redactions (undiscounted) | 1 | 140 | 140
16 | 2808 | Copy of File Content Showing Redactions (small entity) | 1 | 140 | 140
16 | 3808 | Copy of File Content Showing Redactions (micro entity) | 1 | 140 | 140
18 | 1801 | Request for Continued Examination (RCE) Transmittal (First Request) (undiscounted) | 70,734 | 1,360 | 96,198,240
18 | 2801 | Request for Continued Examination (RCE) Transmittal (First Request) (small entity) | 19,673 | 544 | 10,702,112
18 | 3801 | Request for Continued Examination (RCE) Transmittal (First Request) (micro entity) | 1,992 | 272 | 541,824
18 | 1820 | Request for Continued Examination (RCE) Transmittal (Second and Subsequent Requests) (undiscounted) | 29,979 | 2,000 | 59,958,000
18 | 2820 | Request for Continued Examination (RCE) Transmittal (Second and Subsequent Requests) (small entity) | 8,985 | 800 | 7,188,000
18 | 3820 | Request for Continued Examination (RCE) Transmittal (Second and Subsequent Requests) (micro entity) | 637 | 400 | 254,800
19 | 1830 | Request for Suspension of Action or Deferral of Examination Under 37 CFR 1.103(b), (c), or (d) (undiscounted) | 354 | 140 | 49,560
19 | 2830 | Request for Suspension of Action or Deferral of Examination Under 37 CFR 1.103(b), (c), or (d) (small entity) | 245 | 56 | 13,720
19 | 3830 | Request for Suspension of Action or Deferral of Examination Under 37 CFR 1.103(b), (c), or (d) (micro entity) | 31 | 28 | 868
20 | 1803 | Request for Voluntary Publication or Republication (includes publication fee for republication) (undiscounted) | 157 | 140 | 21,980
20 | 2803 | Request for Voluntary Publication or Republication (includes publication fee for republication) (small entity) | 19 | 140 | 2,660
20 | 3803 | Request for Voluntary Publication or Republication (includes publication fee for republication) (micro entity) | 4 | 140 | 560
22 | 1830 | Processing Fee Under 37 CFR 1.17(i) Transmittal (undiscounted) | 56 | 140 | 7,840
22 | 2830 | Processing Fee Under 37 CFR 1.17(i) Transmittal (small entity) | 39 | 56 | 2,184
22 | 3830 | Processing Fee Under 37 CFR 1.17(i) Transmittal (micro entity) | 5 | 28 | 140
29 | 1810 | For each additional invention to be examined (see 37 CFR 1.129(b)) (undiscounted) | 1 | 880 | 880
29 | 2810 | For each additional invention to be examined (see 37 CFR 1.129(b)) (small entity) | 1 | 352 | 352
29 | 3810 | For each additional invention to be examined (see 37 CFR 1.129(b)) (micro entity) | 1 | 176 | 176
29 | 1809 | Filing a submission after final rejection (see 37 CFR 1.129(a)) (undiscounted) | 17 | 880 | 14,960
29 | 2809 | Filing a submission after final rejection (see 37 CFR 1.129(a)) (small entity) | 20 | 352 | 7,040
29 | 3809 | Filing a submission after final rejection (see 37 CFR 1.129(a)) (micro entity) | 6 | 176 | 1,056
30 | 1819 | Correction of inventorship after first office action on the merits (undiscounted) | 793 | 640 | 507,520
30 | 2819 | Correction of inventorship after first office action on the merits (small entity) | 617 | 256 | 157,952
30 | 3819 | Correction of inventorship after first office action on the merits (micro entity) | 60 | 128 | 7,680
31 | 1830 | Request for correction in a patent application relating to inventorship or an inventor name, or order of names, other than in a reissue application (37 CFR 1.48) (non-provisional) (undiscounted) | 7,122 | 140 | 997,080
31 | 2830 | Request for correction in a patent application relating to inventorship or an inventor name, or order of names, other than in a reissue application (37 CFR 1.48) (non-provisional) (small entity) | 5,180 | 56 | 290,080
31 | 3803 | Request for correction in a patent application relating to inventorship or an inventor name, or order of names, other than in a reissue application (37 CFR 1.48) (non-provisional) (micro entity) | 648 | 28 | 18,144
31 | 1807 | Request for correction in a patent application relating to inventorship or an inventor name, or order of names, other than in a reissue application (37 CFR 1.48) (provisional) | 5,550 | 50 | 277,500
N/A | 1817 | Request for prioritized examination (undiscounted) | 6,481 | 4,200 | 27,220,200
N/A | 2817 | Request for prioritized examination (small entity) | 7,491 | 1,680 | 12,584,880
N/A | 3817 | Request for prioritized examination (micro entity) | 1,028 | 840 | 863,520
Totals |  |  | 533,476 |  | 363,579,616

Postage Costs

Although the USPTO prefers that the items in this information collection be submitted electronically, responses may be submitted by mail through the United States Postal Service (USPS). The USPTO estimates that 1% of the 2,435,597 items will be submitted in the mail resulting in 24,356 mailed items. The USPTO estimates that the average postage cost for a mailed submission, using a Priority Mail flat rate legal envelope, will be $9.95. Therefore, the USPTO estimates that the total mailing costs for this information collection is $242,342.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personally identifiable information (PII) in a comment, be aware that the entire comment—including PII—may be made publicly available at any time. While you may ask in your comment to withhold PII from public view, USPTO cannot guarantee that it will be able to do so.

Justin Isaac,
Information Collections Officer, Office of the Chief Administrative Officer, United States Patent and Trademark Office.

[FR Doc. 2024-01722 Filed 1-26-24; 8:45 am]

BILLING CODE 3510-16-P